DEPARTMENT OF TRANSPORTATION

Federal Aviation Administration

14 CFR Part 39

[Docket No. 2000-NM-227-AD]

RIN 2120-AA64

Airworthiness Directives; Airbus Model A319, A320, and A321 Series Airplanes

AGENCY: Federal Aviation Administration, DOT.

ACTION: Notice of proposed rulemaking (NPRM).

SUMMARY: This document proposes the adoption of a new airworthiness directive (AD) that is applicable to all Airbus Model A319, A320, and A321 series airplanes. This proposal would require a revision to the Airplane Flight Manual; inspection to detect damage of the wiring and adjacent structure along the length of the fairing of the fuel boost pump; corrective actions, if necessary; and modification of the fuel pump wire and fairing. This action is necessary to prevent electrical arcing of the fuel boost pump wire, which could result in wing structural damage, fire, and/or fuel vapor explosion. This action is intended to address the identified unsafe condition.

DATES: Comments must be received by September 25, 2000.

ADDRESSES: Submit comments in triplicate to the Federal Aviation Administration (FAA), Transport Airplane Directorate, ANM-114, Attention: Rules Docket No. 2000-NM-227-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-227-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-227-AD.” The postcard will be date stamped and returned to the commenter.

Availability of NPRMs

Any person may obtain a copy of this NPRM by submitting a request to the FAA, Transport Airplane Directorate, ANM-114, Attention: Rules Docket No. 2000-NM-227-AD, 1601 Lind Avenue, SW., Renton, Washington 98055-4056.

Discussion

The FAA has received numerous reports of severe electrical arcing of the fuel boost pump wires located under the wings on Airbus Model A319, A320, and A321 series airplanes. In many cases, the wing skin was damaged by the arcing, and, in one case, approximately two-thirds of the thickness of the wing skin had been eroded. The exact cause of the arcing is unknown, although reports have indicated that the wires could have been damaged from being pinched by the wing fairing during installation and/or chafed in service from vibration. Such electrical arcing of the fuel boost pump wire, if not corrected, could result in wing structural damage, fire, and/or fuel vapor explosion.

U.S. Type Certification of the Airplanes

These airplane models are manufactured in France and are type certificated for operation in the United States under the provisions of section 21.29 of the Federal Aviation Regulations (14 CFR 21.29) and the applicable bilateral airworthiness agreement.

Explanation of Requirements of Proposed Rule

Since an unsafe condition has been identified that is likely to exist or develop on other airplanes of the same type design registered in the United States, the proposed AD would require:

• A revision of the FAA-approved Airplane Flight Manual to advise the flightcrew not to reset any tripped circuit breaker of a wing tank fuel boost pump.

• An initial inspection to detect damage of the wiring and adjacent structure along the length of the fairing of the fuel boost pump; conditional inspections after any circuit breaker of a fuel boost pump is tripped; and corrective actions, if necessary.

• Modification of the fuel pump wire. The proposed AD also would require that operators report results of inspection findings to the FAA.

Cost Impact

The FAA estimates that 306 airplanes of U.S. registry would be affected by this proposed AD.

It would take approximately 1 work hour per airplane to accomplish the proposed AFM revision, at an average labor rate of $60 per work hour. Based on these figures, the cost impact of the AFM revision proposed by this AD on U.S. operators is estimated to be $18,360, or $60 per airplane.

It would take approximately 2 work hours per airplane to accomplish the proposed inspection (including time to remove the fairing), at an average labor rate of $60 per work hour. Based on these figures, the cost impact of the inspection proposed by this AD on U.S. operators is estimated to be $36,720, or $120 per airplane.

Since the manufacturer has not yet developed a modification commensurate with the requirements of this proposal, the FAA is unable at this time to provide specific information as to the number of work hours or cost of parts that would be required to accomplish the proposed modification. The proposed compliance time of 18 months should provide ample time for the development, approval, and installation of an appropriate modification. As indicated earlier in this preamble, the FAA specifically invites the submission of comments and other data regarding this economic aspect of the proposal.

The cost impact figures discussed above are based on assumptions that no operator has yet accomplished any of the proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus Industrie: Docket 2000-NM-227-AD.

Applicability: All Model A319, A320, and A321 airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To prevent electrical arcing of the fuel boost pump wire, which could result in wing structural damage, or fire and/or fuel vapor explosion, accomplish the following:

AFM Revision

(a) Within 10 days after the effective date of this AD, revise the Limitations Section of the FAA-approved airplane flight manual (AFM) to include the following. This may be accomplished by inserting a copy of this AD into the AFM.

“FUEL SYSTEM

If a circuit breaker for any wing tank fuel boost pump is tripped, do not reset.”

Inspection

(b) Within 90 days after the effective date of this AD: For each fuel boost pump, remove the fairing located on the lower wing skin and perform a detailed visual inspection of the wiring and the adjacent structure along the length of the fairing. Inspect to detect damage to the wires including chafed, pinched, or melted wires, and any signs of arcing damage to the structure. When replacing the fairing following the inspection, take care not to pinch or otherwise damage the wiring of the fuel boost pumps; incorrect replacement of the fairing could cause damage to the wiring.

(1) If any damage to the wire is detected: Prior to further flight, replace the wire with new wire in accordance with the manufacturer's Aircraft Wiring Manual, Standard Practices, Chapter 20. Submit a report at the time specified and in accordance with paragraph (d) of this AD.

(2) If any arcing damage to the structure is detected: Prior to further flight, repair the damaged structure in accordance with a method approved by either the Manager, International Branch, ANM-116, FAA, Transport Airplane Directorate; or the Direction Générale de l'Aviation Civile (DGAC), which is the airworthiness authority for France (or its delegated agent). For a repair method to be approved by the Manager, International Branch, ANM-116, as required by this paragraph, the Manager's approval letter must specifically reference this AD. Submit a report at the time specified and in accordance with paragraph (d) of this AD.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(c) As of the effective date of this AD: For any fuel boost pump on which the circuit breaker of the pump has tripped, prior to further use of that pump, accomplish the inspection and applicable corrective actions specified by paragraph (b) of this AD.

Reporting Requirement

(d) If any damage is detected during any inspection required by paragraphs (b) and (c) of this AD: Within 10 days after accomplishing that inspection, submit a report of the inspection findings to the Manager, International Branch, ANM-116, FAA, Transport Airplane Directorate, 1601 Lind Avenue, SW., Renton, Washington 98055-4056; fax (425) 227-1149. The report must include a description of the damage found, the airplane serial number, and the number of landings and flight hours on the airplane. Information collection requirements contained in this regulation have been approved by the Office of Management and Budget (OMB) under the provisions of the Paperwork Reduction Act of 1980 (44 U.S.C. 3501 et seq.) and have been assigned OMB Control Number 2120-0056.

Modification

(e) Within 18 months after the effective date of this AD, modify the fuel pump wire and fairing, in accordance with a method approved by the Manager, International Branch, ANM-116.

Alternative Methods of Compliance

(f) An alternative method of compliance or adjustment of the compliance time that provides an acceptable level of safety may be used if approved by the Manager, International Branch, ANM-116. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(g) Special flight permits may be issued in accordance with sections 21.197 and 21.199 of the Federal Aviation Regulations (14 CFR 21.197 and 21.199) to operate the airplane to a location where the requirements of this AD can be accomplished.

Issued in Renton, Washington, on August 18, 2000.
Vi L. Lipski,
Acting Manager, Transport Airplane Directorate, Aircraft Certification Service.

[FR Doc. 00-21465 Filed 8-23-00; 8:45 am]

BILLING CODE 4910-13-P